DEPARTMENT OF HOMELAND SECURITY

Coast Guard Maritime Administration

[USCG 2003-14134]

Port Pelican LLC Deepwater Port License Application; Preparation of Environmental Impact Statement

AGENCY: Coast Guard, DHS, and Maritime Administration, DOT.

ACTION: Notice of public meeting.

SUMMARY: The U.S. Coast Guard and the Maritime Administration will hold a public meeting/informational open house to discuss issues to be addressed in the environmental impact statement for the Port Pelican LLC natural gas deepwater port license application.

DATES: The meeting date is April 29, 2003, 3 p.m. to 7 p.m., Lafayette, LA.

ADDRESSES: The meeting location is: Lafayette Hilton Hotel, West Pinhook Rd, Lafayette, LA 70503, (337) 235-6111.

FOR FURTHER INFORMATION CONTACT: If you have questions about the project or the meeting, contact Commander Mark Prescott, U.S. Coast Guard at (202) 267-0225 or mprescott@comdt.uscg.mil.

SUPPLEMENTARY INFORMATION: The U.S. Coast Guard and the Maritime Administration (MARAD) recently issued a notice of intent (68 FR 16808, Apr. 7, 2003) to prepare an environmental impact statement (EIS) in connection with the Port Pelican LLC natural gas deepwater port license application. As part of the scoping process summarized in that notice, and as authorized by 40 CFR 1508.22 (b)(4), the Coast Guard and MARAD will hold a public meeting and informational open house in Lafayette, Louisiana on April 29, 2003, at the time and location noted above under DATES and ADDRESSES. Public comments will be accepted at that meeting and can also be submitted to the docket, as described in the April 7, 2003 notice of intent. Consult that notice for further information about the Port Pelican LLC license application. If you plan to attend the meeting and need special assistance, such as sign language interpretation or other reasonable accommodations, contact the U.S. Coast Guard as indicated in FOR FURTHER INFORMATION CONTACT.

Dated: April 11, 2003.
Joseph J. Angelo,
Director of Standards, Marine Safety, Security and Environmental Protection, Coast Guard.
Raymond R. Barberesi,
Director, Office of Ports and Domestic Shipping, Maritime Administration.

[FR Doc. 03-9345 Filed 4-11-03; 2:48 pm]

BILLING CODE 4910-15-P